DEPARTMENT OF DEFENSE

Department of the Navy

[Docket ID: USN-2010-0015]

Privacy Act of 1974; System of Records

AGENCY: U.S. Marine Corps, Department of the Navy, DoD.

ACTION: Notice to add a system of records.

SUMMARY: The U.S. Marine Corps proposes to add a system of records to its inventory of record systems to the Privacy Act of 1974 (5 U.S.C. 552a), as amended.

DATES: This proposed action will be effective without further notice on June 1, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

• Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Ross at (703) 614-4008.

SUPPLEMENTARY INFORMATION: The U.S. Marine Corps system of records notices subject to the Privacy Act of 1974 (5 U.S.C. 552a), as amended, have been published in the Federal Register and are available from Headquarters, U.S. Marine Corps, FOIA/PA Section (ARSF), 2 Navy Annex, Room 3134, Washington, DC 20380-1775.

The proposed system report, as required by 5 U.S.C. 552a(r), of the Privacy Act of 1974, as amended, was submitted on April 16, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: April 26, 2010.
Mitchell S. Bryman,
Alternate OSD Federal Register Liaison Officer, Department of Defense.

M01040-3

System name:

Marine Corps Manpower Management Information System Records.

System location:

Primary locations:

Defense Information Support Agency (DISA) Defense Enterprise Computing Center (DECC), 4300 Goodfellow Boulevard, Building 103, Post E-20, St. Louis, MO 63120-1703.

Defense Finance and Accounting Service-Kansas City Center, 1500 East Bannister Road, Kansas City, MO 64197-0901.

Technology Services Organization (TSO), 1500 East Bannister Road, Kansas City, MO 64197-0901.

Manpower Information Systems Support Activity (MISSA), 1500 East Bannister Road, Kansas City, MO 64197-0901.

Headquarters Marine Corps (HQMC), Manpower Information Systems Division (MI), at the James Wesley Marsh Center, 3280 Russell Road, Marine Corps Base (MCB), Quantico, VA 22134-5103.

ODSE: Marine Corps Base, Camp S.D. Butler, Unit 35002, Okinawa, Japan FPO AP 96373-5002.

SPA: Headquarters Marine Corps (HQMC), Information Systems Management Branch (ARI), Henderson Hall, Arlington, VA 22214-5001.

Decentralized segments:

Manpower Information System Support Office-02, Marine Corps Base, Camp LeJeune, NC 28542-5000.

Manpower Information System Support Office-03, Marine Corps Base, Camp Pendleton, CA 92055-5000.

Manpower Information System Support Office-06, Marine Corps Base, Hawaii, Kaneohe Bay, HI 96863-5000.

Manpower Information System Support Office-09, Headquarters, U.S. Marine Corps, Washington, DC 20380-1775.

Manpower Information System Support Office-16 and 17, Marine Corps Support Activity, Kansas City, MO 64197-0001.

Manpower Information System Support Office-11, Headquarters, Washington, DC 20380-1775.

Manpower Information System Support Office-27, Marine Corps Base, Camp S.D. Butler, Okinawa, JA, FPO AP 98773-5001.

Categories of individuals covered by the system:

Active duty, Reserves and retired Marines; dependents of active duty, Reserve and retired Marines; other DoD Military personnel, government employees and Foreign Military Service personnel.

Categories of records in the system:

Personal Information: Individual's name, rank/grade, Social Security Number (SSN), promotion photos, date of birth, blood type, hair and eye color, height and weight, citizenship, population group, gender, ethnic group, marital status, place of birth, home of record, records of emergency data.

Personnel/Duty Related Information: Enlistment contract or officer acceptance form identification, leave account information, component code, duty status codes, order processing data, duty station, individual manpower activation/mobilization data, deployment information, unit information, temporary duty and Fleet Assistant Program data, overseas deployment data to include personal location by DoD latitude and longitude and/or military grid information, personnel assignment data, employment and job related information and history, work title, work address and related work contact information (e.g., phone and fax numbers, E-mail address), supervisor's name and related contact information.

Medical Related Information: Limited medical data to include medical examinations, test results, shot history, sick in quarters status, medical evacuation information and hospitalization data. Wounded Warrior Regiment (WWR) data to include Line of Duty determinations, Incapacitation Pay Benefits and Medical Hold requests and status.

Education and Training Information: High school data, test scores/information, language proficiency, military/civilian off-duty education, training information to include marksmanship data, physical fitness data, swim qualifications, military occupational specialties (MOS), military skills and schools, weight control and military appearance data.

Performance/Career Related Information: Awards, performance evaluation data to include fitness reports, derogatory comments, disciplinary actions, rebuttals and their decisions, combat tour information, aviation/pilot flying time data, reserve units data, drill dates and muster data, lineal precedence number, limited duty officer and warrant officer footnotes, separation document code, conduct and proficiency marks, promotional data, years in service, commanding officer assignment/relief data, joint military occupational specialty data, judicial proceedings and courts martial data.

Pay and Entitlements Information: Pay data including the leave and earnings statement which may include base pay, allowances, allotments, bond authorization, health care coverage, dental coverage (if applicable), special pay and bonus data, federal and state withholding/income tax data, Federal Deposit Insurance Corporation contributions, Medicare, Service members' Group Life Insurance deductions, leave account, wage and summaries, reserve drill pay, reserve Active Training (AT) pay, direct deposit and Electronic Fund Transfer (EFT) data, court ordered garnishment of wages and other personnel/pay management data.

Authority for maintenance of the system:

10 U.S.C. 5013, Secretary of the Navy; 10 U.S.C. 5041, Headquarters, Marine Corps; 10 U.S.C. 1074f, Medical Tracking System for Members Deployed Overseas; 32 CFR 64.4, Management and Mobilization; DoD Dir 1215.13, Reserve Component Member Participation Policy; DoD Instruction 3001.02, Personnel Accountability in Conjunction with Natural and Manmade Disasters; CJCSM 3150.13B, Joint Reporting Structure—Personnel Manual; DoD Instruction 6490.03, Deployment Health; MCMEDS: SECNAVINST 1770.3D, Management and Disposition of Incapacitation Benefits for Members of the Navy and Marine Corps Reserve Components (Renamed Line of Duty (LOD)); and MCO 7220.50, Marine Corps Policy for paying Reserve Marines; and E.O. 9397 (SSN), as amended.

Purpose(s):

The Marine Corps Manpower Management Information System (MCMMIS) provides the Marine Corps with the ability to support and manage all aspects of the Human Resource Development Process (HRDP) of all Active duty and Reserve Marines. The system also includes the capability to report certain entries to enhance personnel management for reserve and retired Marines, Government employees working for the Marine Corps, other DoD military personnel, as well as Foreign Military Service personnel who are attached to Marine Corps commands. In addition, it has the capability to provide simulation, analysis and forecasting tools to capture and process manpower information, making data visible to the appropriate Marine Corps decision makers, as well as providing statutory and regulatory management reports to higher headquarters.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To officials and employees of the American Red Cross and the Navy Relief Society in the performance of their duties. Access will be limited to those portions of the member's record required to effectively assist the member.

To officials and employees of federal, state and local government, through official request for information with respect to law enforcement, investigatory procedures, criminal prosecution, civil court action, Congressional inquiries and regulatory order.

To officials and employees of the Department of Veterans Affairs and civilian health and dental care providers upon request, in the performance of their official duties related to the management of incapacitation pay and benefits for injured reservists.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

The DoD `Blanket Routine Uses' set forth at the beginning of the Marine Corps' compilation of systems of records notices apply to this system.

Policies and practices for storing, retrieving, accessing, retaining, and disposing of records in the system:

Storage:

Electronic storage media and paper records in file folders.

Retrievability:

Records are retrieved by name and/or Social Security Number (SSN).

Safeguards:

Login to systems and network requires use of the DoD Common Access Card (CAC). Public Key Infrastructure (PKI) network login may be required to allow for documents to be digitally signed and encrypted and/or the receiving of encrypted mail. Official users without issuance of a CAC must use the Total Force Administration System—Marine On-Line (TFAS—MOL) Web portal to access the system. The TFAS MOL account holders are authenticated and provided access after registering for an account and use a user name and strong password login verification. Access to server rooms is strictly controlled by the hosting facility personnel. At a minimum, cipher locks, access rosters, sign-in sign-out procedures, escort and supervision of all maintenance personnel and physical security checks are provided on a routine basis. Physical security of buildings after normal working hours, are provided by independent security guards or military police.

Retention and disposal:

Disposition pending (until the National Archives and Records Administration approves retention and disposal schedule, records will be treated as permanent).

System manager(s) and address:

Director, Defense Finance and Accounting Service—Cleveland Center, 1240 E. 9th Street, Cleveland, OH 44199-2055.

Director, Manpower Information Systems Support Activity, 1500 East Bannister Road, Kansas City, MO 64197-0901.

Director Manpower Information (MI), Manpower and Reserve Affairs (M&RA), James Wesley Marsh Center, 3280 Russell Road, Quantico, VA 22134-5103.

Director, Manpower Personnel Support Branch (MMSB), Headquarters Marine Corps (HQMC), Manpower & Reserve Affairs (M&RA), James Wesley Marsh Center, 3280 Russell Road, MCB Quantico, VA 22134-5103.

Notification procedure:

Active Duty/Reserve Members seeking to determine whether pay information about themselves is contained in this system of records should address written inquiries to the member's local disbursing office.

Active Duty/Reserve Members seeking to determine whether personnel information about themselves is contained in this system of records should address written inquiries to the member's immediate commanding officer.

Retired Members seeking to determine whether pay and personnel information about themselves is contained in this system of records should address written inquiries to the Commandant of the Marine Corps, (Code MIF), Headquarters, U.S. Marine Corps, Washington, DC 20380-1775.

Individual should provide their full name, Social Security Number (SSN), and the request must be signed.

In order to personally visit the above addresses and obtain information, individuals must present a military identification card, a driver's license, or other proof of identity.

Record access procedures:

Active Duty/Reserve Members seeking to access pay information about themselves contained in this system of records should address written inquiries to the member's local disbursing office.

Active Duty/Reserve Members seeking access to personnel information about themselves contained in this system of records should address written inquiries to the member's immediate commanding officer.

Retired Members seeking to access pay and personnel information about themselves contained in this system of records should address written inquiries to the Commandant of the Marine Corps, (Code MIF), Headquarters, U.S. Marine Corps, Washington, DC 20380-1775.

Individual should provide their full name, Social Security Number (SSN), and the request must be signed.

In order to personally visit the above addresses and obtain information, individuals must present a military identification card, a driver's license, or other proof of identity.

Contesting record procedures:

The Marine Corps rules for accessing records, for contesting contents and appealing initial agency determinations are published in Secretary of the Navy Instruction 5211.5; 32 CFR part 701; or may be obtained from the system manager.

The Navy's rules for accessing records, for contesting contents and appealing initial agency determinations are published in Secretary of the Navy Instruction 5211.5; 32 CFR part 701; or may be obtained from the system manager.

Record source categories:

Individual; Headquarters, Marine Corps; Defense Enrollment Eligibility Reporting System (DEERS); Schools and Educational Institutions; Navy Central Adjudication Facility (DoNCAF); Joint Personnel Adjudication System (JPAS); Internal Revenue Service (IRS); Veterans Administration (VA); Social Security Administration (SSA); Navy & Marine Corps Relief Society (NMCRS); Morale Welfare and Recreation (MWR); Department of Treasury (DOT); National Finance Center (NFC); Federal Reserve Bank (FSB); Army & Air Force Exchange Services (AAFES); medical and dental treatment facilities/care givers; Standard Accounting Budget Reporting System (SABRS); Defense Travel System (DTS); Defense Manpower Data Center (DMDC); and Department of Agriculture (DoA).

Exemptions claimed for the system:

None.

[FR Doc. 2010-9997 Filed 4-28-10; 8:45 am]

BILLING CODE 5001-06-P